DEPARTMENT OF THE INTERIOR

Bureau of Land Management

[LLWO320000.L19900000.PO0000; OMB Control Number 1004-0169]

Renewal of Approved Information Collection

AGENCY: Bureau of Land Management, Interior

ACTION: 30-Day notice and request for comments.

SUMMARY: The Bureau of Land Management (BLM) has submitted an information collection request to the Office of Management and Budget (OMB) to continue the collection of information pertaining to the use and occupancy of public lands in accordance with various mining laws. The Office of Management and Budget (OMB) has assigned control number 1004-0169 to this collection.

DATES: The OMB is required to respond to this information collection request within 60 days but may respond after 30 days. For maximum consideration written comments should be received on or before December 8, 2014.

ADDRESSES: Please submit comments directly to the Desk Officer for the Department of the Interior (OMB #1004-0169), Office of Management and Budget, Office of Information and Regulatory Affairs, fax 202-395-5806, or by electronic mail at OIRA_submission@omb.eop.gov. Please provide a copy of your comments to the BLM via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0169” regardless of the form of your comments.

FOR FURTHER INFORMATION CONTACT: Adam Merrill, Division of Solid Minerals, at 202-912-7044. Persons who use a telecommunication device for the deaf (TDD) may call the Federal Information Relay Service (FIRS) on 1-800-877-8339, to leave a message for Mr. Merrill. You may also review the information collection request online at http://www.reginfo.gov/public/do/PRAMain.

SUPPLEMENTARY INFORMATION: The Paperwork Reduction Act (44 U.S.C. 3501-3521) and OMB regulations at 5 CFR Part 1320 provide that an agency may not conduct or sponsor a collection of information unless it displays a currently valid OMB control number. Until OMB approves a collection of information, you are not obligated to respond. In order to obtain and renew an OMB control number, Federal agencies are required to seek public comment on information collection and recordkeeping activities. (see 5 CFR 1320.8 (d) and 1320.12(a)).

As required in 5 CFR 1320.8(d), the BLM published a 60-day notice in the Federal Register on June 3, 2014 (79 FR 31979), and the comment period closed on August 4, 2014. The BLM received no public comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB Control Number 1004-0169 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Use and Occupancy Under the Mining Laws (43 CFR subpart 3715).

OMB Control Number: 1004-0169.

Type of Review: Extension of a currently approved information collection.

Abstract: This notice pertains to the collection of information that is necessary in order to regulate the use and occupancy of public lands for developing mineral deposits under various mining laws.

Frequency of Collection: On occasion.

Forms: None.

Estimated Annual Burden: 168 hours.

Estimated Annual Responses: 84.

Estimated Annual Non-hour Burden Cost: None.

The estimated burdens for this collection are itemized in the following table:

Type of response | Number of responses | Time per response | Total hours (Column B × Column C)
A | B | C | D
Proposed occupancy 43 CFR 3715.3-2 | 74 | 2 hours | 148
Notification of existing use or occupancy 43 CFR 3715.4 | 10 | 2 hours | 20
Totals | 84 |  | 168

Jean Sonneman,
Bureau of Land Management, Information Collection Clearance Officer.

[FR Doc. 2014-26515 Filed 11-6-14; 8:45 am]

BILLING CODE 4310-84-P